DEPARTMENT OF JUSTICE

Drug Enforcement Administration

Manufacturer of Controlled Substances; Notice of Application

Pursuant to § 1301.33(a) of Title 21 of the Code of Federal Regulations (CFR), this is notice that on April 1, 2004, American Radiolabeled Chemicals, Inc., 101 Arc Drive, St. Louis, Missouri 63146, made application by renewal to the Drug Enforcment Administration (DEA) for registration as a bulk manufacturer of the basic classes of controlled substances listed below.

Drug | Schedule
Gamma hydroxybutyric acid (2010) | I
Dimethyltryptamine (7435) | I
Dihydromorphine (9145) | I
Cocaine (9041) | II
Codeine (9050) | II
Hydromorphone (9150) | II
Benzoylecgonine (9180) | II
Ecgonine (9180) | II
Meperidine (9230) | II
Metazocine (9240) | II
Morphine (9300) | II
Oxymorphone (9652) | II

The firm plans to bulk manufacture small quantities of the listed controlled substances as radiolabeled compounds.

Any other such applicant and any person who is presently registered with DEA to manufacture such substances may file comments or objections to the issuance of the proposed registration.

Any such comments or objections may be addressed, in quintuplicate, to the Deputy Assistant Administrator, Office of Diversion Control, Drug Enforcement Administration, United States Department of Justice, Washington, DC 20537, Attention: Federal Register Representative, Office of Chief Counsel (CCD) and must be filed no later than August 2, 2004.

Dated: May 21, 2004.
William J. Walker,
Deputy Assistant Administrator, Office of Diversion Control, Drug Enforcement Administration.

[FR Doc. 04-12467 Filed 6-2-04; 8:45 am]

BILLING CODE 4410-09-M